DEPARTMENT OF THE INTERIOR

National Park Service

National Register of Historic Places; Notification of Pending Nominations

Nominations for the following properties being considered for listing in the National Register were received by the National Park Service before July 3, 2004. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by August 11, 2004.

Carol D. Shull,
Keeper of the National Register of Historic Places.

CALIFORNIA

Orange County

Hillcrest Park, 200 Brea Blvd., Fullerton, 04000812

IOWA

Clayton County

St. Mary's Catholic Church Historic District, (Guttenberg, Iowa MPS) 502,518,520 S. Second St., 214 Herder St., Guttenberg, 04000817

Dubuque County

Langworthy Historic District, (Dubuque, Iowa MPS) Langworthy, West Third, Melrose Terrace, vet. Hill and W. 5th, Alpine and Walnut bet. Solon and W. Fifth, Dubuque, 04000813

West Eleventh Street Historic District, (Dubuque, Iowa MPS) Bounded by Grove Terrace, Loras Blvd., Wilbur and Walnut Sts., Dubuque, 04000814

Polk County

Big Creek Schoolhouse, 112 3rd St., Polk City, 04000816

Hazen, Allen, Water Tower, 4800 Hickman Rd., Des Moines, 04000819

Hubbell Building, 904 Walnut St., Des Moines, 04000818

Wapello County

B'naie Jacob Synagogue, (Ottumwa MPS) 529 E. Main, Ottumwa, 04000815

MINNESOTA

Otter Tail County

People's Union Church, 48566 205th Ave., Scambler Township, 04000836

Todd County

Batcher Opera House Block, Fifth St. and Second Ave., Staples, 04000837

MISSISSIPPI

Washington County

Gamwyn Park Historic District, Bounded by Gamwyn Park Dr., N. Gamwyn Dr., E. Gamwyn Dr., S. Dr., and W. Gamwyn Dr., Greenville, 04000820

NEW YORK

Broome County

Riverside Cemetery, 400 Vestal Ave., Endicott, 04000824

New York County

Pier 57, Eleventh Ave. at end of W. 15th St., New York, 04000821

Otsego County

Bassett Family House, 2399 Main St., Mt. Vision, 04000823

Washington County

Revolutionary War Cemetery, 9 Archibald St., Salem, 04000822

NORTH CAROLINA

Alleghany County

Rock House, 7 Chestnut Ln., Roaring Gap, 04000827

Buncombe County

Eller, Joseph P., House, 494 Clarks' Chapel Rd., Weaverville, 04000826

Riverside Industrial Historic District, Roughly bounded by Clingman Ave., Lyman St., Roberts St., and Riverside Dr., Asheville, 04000825

Carteret County

Morehead City Municipal Building, 202 S. Eighth St., Morehead City, 04000828

OHIO

Cuyahoga County

Kies, Lewis, House, 4208 Prospect Ave., Cleveland, 04000833

Hancock County

Adams School, 826 Washington St., Findlay, 04000832

OREGON

Lane County

Dads' Gates, 11th Ave. E. bet. Kincaid St. and Franklin Blvd., Eugene, 04000829

Multnomah County

Hotel Alder, (Downtown Portland, Oregon MPS) 415 SW Alder St., Portland, 04000831

Kline, Moses, and Ida, House, 2233 SW 18th Ave., Portland, 04000830

PENNSYLVANIA

Chester County

Williams, Ellis, House, 1711 E. Boot Rd., East Goshen, 04000835

Cumberland County

Givin, Amelia S., Free Library, 114 N. Baltimore Ave., Mt. Holly Springs, 04000841

Lehigh County

Slatington Historic District, Roughly bounded by Ridge Alley, Chesnut St., Railroad St., Kern St., Hill Alley, 5th St. and Dowell, Slatington, 04000839

Vigilant Fire Company Firemen's Monument, Union Cemetery W side of PA 873, approx. ⅓ mil S of Slatington, Washington Township, 04000838

Northampton County

Stout, Isaac, House, 50 Durham Rd., Williams, 04000834

VIRGINIA

Bedford County

Thomas Methodist Episcopal Chapel, VA 684, Penicks Mill Rd., Thaxton, 04000844

Charlottesville Independent City

Recoleta, 120 Rothery Rd., Charlottesville (Independent City), 04000858

Clarke County

Chapel Hill, 300 Chapel Hill Ln., Berryville, 04000846

Dinwiddie County

Montrose, 19216 Old White Oak Rd., McKenney, 04000855

Fairfax County

Four Stairs, 840 Leigh Mill Rd., Great Falls, 04000842

Great Falls Grange Hall and Forestville School, 9812 and 9818 Georgetown Pike, Great Falls, 04000861

Taft Archeological Site #029-5411, Address Restricted, Lorton, 04000859

Fluvanna County

Pleasant Grove, Thomas Jefferson Pkwy, VA 53, Palmyra, 04000843

Franklin Independent City

Franklin Historic District (Boundary Increase), Jct. of U.S. 58 and VA 258, Franklin (Independent City), 04000853

King George County

Millbank, 15615 Millbank Rd. (VA 631), Port Conway, 04000845

Louisa County

Bloomingtong, Bloomington Ln., Louisa, 04000850

Page County

Milford Battlefield, VA 340 and VA 665, Overall, 04000854

Richmond Independent City

Broad Street Commercial Historic District (Boundary Increase), 709-916 W. Broad St., 308-310 N. Laurel St., 301-306 Gilmer St., Richmond (Independent City), 04000851

Grace Hospital, 401 West Grace St., Richmond (Independent City), 4000856

Suffolk Independent City

Nansemond County Training School, (Rosenwald Schools in Virginia MPS) 9307 Southwestern Blvd., Suffolk (Independent City), 04000847

Virginia Beach Independent City

Camp Pendleton—State Military Reservation Historic District, Roughly bounded by General Booth Blvd., S. Birdneck Rd., and the Atlantic Ocean, Virginia Beach (Independent City), 04000852

Warren County

Balthis House, 55 Chester St., Front Royal, 04000860

Washington County

Walnut Grove, 14081 Lee Highway, Bristol, 04000840

Williamsburg Independent City

Whaley, Matthew, School, 301 Scotland St., Williamsburg (Independent City), 04000857

WISCONSIN

Clark County

Owen High School, 101 East Third St., Owen, 04000848

Milwaukee County

Wadhams Gas Station, 1647 S. 76th St., West Allis, 04000849

A request for REMOVAL has been made for the following resources:

ILLINOIS

Coles County

Cleveland, Cincinnati, Chicago and St. Louis Railroad Station, 1632 Broadway St., Mattoon, 86000135

Du Page County

Middaugh, Henry C., House, 66 Norfolk Ave., Clarendon Hills, 78003105

Macon County

Decatur and Macon County Welfare Home for Girls, 736 S. Martin Luther King Jr. Dr., Decatur, 99000982

[FR Doc. 04-16995 Filed 7-26-04; 8:45 am]

BILLING CODE 4312-51-P